Executive Order 13731 of June 24, 2016

Global Entrepreneurship

By the authority vested in me as President by the Constitution and the laws of the United States of America, it is hereby ordered as follows:

Section 1. Policy. The American spirit of entrepreneurship is one of our most admired values around the world, and the United States has produced many of the world's most respected businesses and inspiring business creators. At a time when many societies confront extremism, unemployment, and slow economic growth, entrepreneurship holds out the promise of opportunity, prosperity, and security.

It is in the national interest for the Federal Government to support innovation, global entrepreneurship, and the American private sector. Linking entrepreneurs with capital, new networks, and markets and providing skills and training will allow them to grow their businesses and positively impact their communities. It is also necessary that we help enable our global partners to invest in the tools and infrastructure that make this possible, including high-speed broadband; business incubators and accelerators; regional economic development programs and extension services; international people-to-people exchange programs; and the technical, export, and business assistance and mentoring that entrepreneurs need worldwide in order to drive economic growth and job creation.

This order sets forth the administration and goals of several programs designed to connect American and foreign entrepreneurs with the Federal Government and promote entrepreneurship across the United States and around the world by sharing the knowledge, experience, and connectivity necessary to help develop the next generation of entrepreneurs.

Sec. 2. Administration of the Presidential Ambassadors for Global Entrepreneurship Program. (a) The Secretary of Commerce (Secretary) shall administer the Presidential Ambassadors for Global Entrepreneurship Program (PAGE Program) to enable individuals who exemplify the spirit of American entrepreneurship and who have proven track records to use their networks, platforms, and voices to support aspiring entrepreneurs and advance public policies that encourage entrepreneurship in the United States and around the globe. Individuals selected for participation in the PAGE Program shall be known as PAGE Members.

(b) The PAGE Program shall be administered by a Director, appointed by the Secretary under authorities of the Department of Commerce (Commerce). Commerce shall provide necessary staff, resources, and administrative support for the PAGE Program to the extent permitted by law and within existing appropriations.

Sec. 3. PAGE Advisory Board. (a) The Secretary shall establish an Advisory Board to advise the Secretary by recommending such priorities, standards, and partnerships as may be beneficial to fulfill the goals of the PAGE Program and to identify potential opportunities for PAGE Members to support the PAGE Program.

(b) The Secretary shall serve as Chair of the Advisory Board. In addition to the Chair, the membership of the Advisory Board shall include the Secretary of State, the Administrator of the United States Agency for International Development (USAID), the Administrator of the Small Business Administration (SBA), and the Administrator of the National Aeronautics and Space Administration (NASA), or their designees, and such other representatives of executive departments and agencies (agencies) as may be designated by the Secretary. Consistent with law, the Advisory Board may consult with industry, academia, and other non-federal entities to ensure that the PAGE Program is continually identifying opportunities to apply innovative practices in effective ways to promote entrepreneurship.

Sec. 4. Selection of PAGE Members. (a) The Secretary, in accordance with applicable law, shall prescribe appropriate procedures for the selection of PAGE Members. PAGE Members will total no more than 25 at any given time.

(b) PAGE Members may participate in the PAGE Program for periods of 2 years, and may be selected to participate for additional periods at the discretion of the Secretary.

Sec. 5. Responsibilities of Agencies. The Department of State (State), USAID, and SBA are encouraged to work with the Secretary and the Advisory Board to maximize the PAGE Program's benefits to innovation, global entrepreneurship, and the American private sector through the identification of opportunities for entrepreneurs to access capital, education, mentorships, and other services that will help to grow their businesses.

Sec. 6. Global Entrepreneurship Summit. (a) The Secretary of State shall coordinate the Federal Government's participation in the Global Entrepreneurship Summit (GES), which will focus on connecting entrepreneurs around the world and empowering them to expand their enterprises and build lasting relationships with the United States; increasing global economic prosperity; building secure communities; promoting responsible business conduct, including business practices to encourage greater representation of all people, including women, youth, and minorities; and using innovation to solve pressing global challenges.

(b) State shall coordinate with Commerce, USAID, and SBA to identify and carry out programs and activities that will further the goals of the GES to the extent permitted by law and within existing appropriations.

Sec. 7. Accelerating Entrepreneurship and Economic Opportunity by Expanding Internet Access Globally. State, in coordination with other agencies, multilateral institutions, foreign countries, and stakeholders, shall work to actively promote global Internet connectivity. Specifically, the Global Connect Initiative shall focus on encouraging foreign countries to prioritize Internet connectivity in development plans, promoting the formation of region-specific multi-sector working groups to ensure technical and regulatory best practices, and encouraging the development of digital literacy programs in developing nations.

Sec. 8. Global Connect International Connectivity Steering Group. (a) In order to ensure a coordinated and consistent approach in agency implementation of the goals set forth in section 7 of this order, there is hereby established a Global Connect International Connectivity Steering Group (Steering Group), chaired by State.

(b) The Steering Group shall be composed of a representative from each of the following agencies:

(i) the Department of State;

(ii) the Department of the Treasury;

(iii) the Department of Defense;

(iv) the Department of Commerce;

(v) the Department of Transportation;

(vi) the United States Trade Representative;

(vii) the Small Business Administration;

(viii) the United States Trade and Development Agency;

(ix) the Millennium Challenge Corporation;

(x) the Overseas Private Investment Corporation;

(xi) the Export-Import Bank of the United States; and

(xii) the United States Agency for International Development.

(c) The Chair shall invite a representative from the Federal Communications Commission, and may invite a representative from any other department, agency, component, or office the Chair deems appropriate, to participate as a member of the Steering Group.

(d) The Chair shall consult with the following entities in setting the agenda of the Steering Group and ensuring coordination with other Administration policies:

(i) the National Economic Council;

(ii) the National Security Council Staff; and

(iii) the Office of Science and Technology Policy.

(e) Not later than 6 months after the date of this order, the Steering Group shall report to the Secretary of State. In this report, the Steering Group shall:

(i) describe the current state of agency procedures, requirements, programs, and policies related to the goals of the Global Connect Initiative; and

(ii) provide updates on the strategy and the evaluation criteria for Federal contributions to the Global Connect Initiative.

(f) The Secretary of State may request a periodic update of this report every 12 months thereafter, through 2020, on progress that has been made in achieving the goals of the Global Connect Initiative.

Sec. 9. General Provisions. (a) Nothing in this order shall be construed to impair or otherwise affect:

(i) the authority granted by law to a department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

June 24, 2016.

[FR Doc. 2016-15542

Filed 6-28-16; 8:45 am]

Billing code 3295-F6-P